SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: October 1-31, 2022.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists GF Registration for projects, described below, pursuant to 18 CFR part 806, subpart E, for the time period specified above:

1. Hickory Heights, Inc.—Hickory Heights Golf Club, GF Certificate No. GF-202210226, North Codorus Township, York County, Pa.; Well 1; Issue Date: October 26, 2022.

2. Kline Township Municipal Authority—Public Water Supply System, GF Certificate No. GF-202210227, Kline Township, Schuylkill County, Pa.; combined withdrawal from Well 1, Well 2, Well 8, Honey Brook Reservoir, and No. 8 Reservoir; Issue Date: October 26, 2022.

3. Pennsy Supply, Inc.—Pittston Quarry, GF Certificate No. GF-202210228, Jenkins Township, Luzerne County, Pa.; Well 1; Issue Date: October 26, 2022.

4. Wellsboro Borough Municipal Authority—Public Water Supply System, GF Certificate No. GF-202210229, Duncan and Charleston Townships, Tioga County, Pa.; see Addendum; Issue Date: October 26, 2022.

5. Emporium Country Club, Inc.—Emporium Country Club, GF Certificate No. GF-202210230, Lumber Township, Cameron County, Pa.; Driftwood Branch Sinnemahoning Creek, spring-fed ponds, and consumptive use; Issue Date: October 26, 2022.

6. Village of Horseheads—Public Water Supply System, GF Certificate No. GF-202210231, Town of Horseheads, Chemung County, N.Y.; Wells 1, 2, and 4; Issue Date: October 26, 2022.

Authority: Public Law 91-575, 84 Stat. 1509 et seq., 18 CFR parts 806 and 808.

Dated: November 8, 2022.
Jason E. Oyler,
General Counsel and Secretary to the Commission.

[FR Doc. 2022-24694 Filed 11-10-22; 8:45 am]

BILLING CODE 7040-01-P